DEPARTMENT OF VETERANS AFFAIRS

[OMB Control No. 2900-0060]

Agency Information Collection Activity Under OMB Review: Claim for One Sum Payment Government Life Insurance, Claim for Monthly Payments Government Life Insurance, and Claim for One Sum Payment Government Life Insurance (DocuSign)

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden, and it includes the actual data collection instrument.

DATES: Comments and recommendations for the proposed information collection should be sent by December 16, 2024.

ADDRESSES: To submit comments and recommendations for the proposed information collection, please type the following link into your browser: www.reginfo.gov/public/do/PRAMain, select “Currently under Review—Open for Public Comments”, then search the list for the information collection by Title or “OMB Control No. 2900-0060.”

FOR FURTHER INFORMATION CONTACT: VA PRA information: Maribel Aponte, (202) 461-8900, vacopaperworkreduact@va.gov.

SUPPLEMENTARY INFORMATION:

Title: VA Form 29-4125, Claim for One Sum Payment—Government Life Insurance; VA Form 29-4125e (DocuSign) Claim for One Sum Payment—Government Life Insurance; VA Form 29-4125a, Claim for Monthly Payments—National Service Life Insurance.

OMB Control Number: 2900-0060 https://www.reginfo.gov/public/do/PRASearch.

Type of Review: Revision of a currently approved collection.

Abstract: These forms are used by beneficiaries applying for proceeds of Government Life Insurance policies. The VA Form 29-4125e has been added to this collection. This is an electronic version of the 29-4125. This form was created so beneficiaries can apply for insurance proceeds electronically. This will not affect the number of respondents but will make it easier and reduce the time it takes for beneficiaries to receive their insurance proceeds. The information requested on the forms is required by law, 38 U.S.C. 1917 and 1952.

An agency may not conduct or sponsor, and a person is not required to respond to a collection of information unless it displays a currently valid OMB control number. The Federal Register Notice with a 60-day comment period soliciting comments on this collection of information was published at 89 FR 73508, September 10, 2024.

Affected Public: Individuals or Households.

Estimated Annual Burden: 12,010 hours.

Estimated Average Burden per Respondent: 6 minutes.

Frequency of Response: On occasion.

Estimated Number of Respondents: 120,100.

Authority: 44 U.S.C. 3501 et seq.

Maribel Aponte,
VA PRA Clearance Officer, Office of Enterprise and Integration, Data Governance Analytics, Department of Veterans Affairs.

[FR Doc. 2024-26645 Filed 11-14-24; 8:45 am]

BILLING CODE 8320-01-P